DEPARTMENT OF HEALTH AND HUMAN SERVICES

Centers for Disease Control and Prevention

[Request for Application (RFA) AA084]

Enhancement and Integration of Health Sector HIV/AIDS Strategic Information into the National Multi-Sectoral HIV/AIDS Monitoring and Evaluation System of the United Republic of Tanzania as Part of the President's Emergency Plan for AIDS Relief; Notice of Intent To Fund Limited Eligibility Award

A. Purpose

The Centers for Disease Control and Prevention (CDC) announces the intent to award fiscal year (FY) 2005 funds for a cooperative agreement program to enhance integration of health-sector HIV/AIDS strategic information into the national multi-sectoral HIV/AIDS database linked to the Country Response Information System (CRIS) in the United Republic of Tanzania.

The Catalog of Federal Domestic Assistance number for this program is 93.067.

B. Eligible Applicant

Assistance will only be provided to the Tanzania AIDS Commission (TACAIDS) and the Zanzibar AIDS Commission (ZAC). No other applications are solicited.

TACAIDS and ZAC are currently the only appropriate and qualified organizations to conduct a specific set of activities to support the enhancement and integration of health sector HIV/AIDS strategic information into the national multi-sectoral HIV/AIDS M&E system in the United Republic of Tanzania for the following reasons:

1. TACAIDS and ZAC are uniquely positioned, in terms of legal authority, ability, and credibility among Tanzanian citizens, to coordinate the implementation of zonal initiatives for HIV/AIDS prevention, treatment, and care.

2. TACAIDS and ZAC have developed national HIV/AIDS policies; a national multi-sectoral HIV/AIDS strategic framework, and strategic plans for enhancing national systems for collection of strategic information and M&E of HIV/AIDS in Tanzania, which allows TACAIDS and ZAC to immediately become engaged in the activities listed in this announcement.

3. The purpose of the announcement is to build upon the existing framework of health policy and programming that TACAIDS and ZAC have initiated.

4. TACAIDS and ZAC have a mandate under the Tanzanian Constitution to coordinate multi-sectoral activities necessary for the national response to HIV/AIDS. An Act of Parliament mandates TACAIDS and ZAC to monitor and evaluate multi-sectoral HIV/AIDS activities in the United Republic of Tanzania.

C. Funding

Approximately $500,000 is available in FY 2005 to fund this award to the two identified organizations. It is expected that the awards will begin on or before October 15, 2005, and will be made for a 12-month budget period within a project period of up to four years. Funding estimates may change.

D. Where To Obtain Additional Information

For general comments or questions about this announcement, contact: Technical Information Management, Procurement and Grants Office, Centers for Disease Control and Prevention (CDC), 2920 Brandywine Road, Atlanta, GA 30341-4146, Telephone: 770-488-2700.

For program technical assistance, contact: Cecil Threat, Project Officer, Global AIDS Program, c/o American Embassy-HHS/CDC, 2140 Dar es Salaam Place, Washington, DC 20521-2140, Telephone: 255 22 212 1407, Cellphone: 255 744 222986, Fax: 255 22 212 1462.

E-mail: Cthreat@cdc.gov.

For financial, grants management, or budget assistance, contact: Diane Flournoy, Grants Management Specialist, Procurement and Grants Office, Centers for Disease Control and Prevention (CDC), 2920 Brandywine Road, Atlanta, GA 30341, Telephone: 770-488-2072, E-mail: dflournoy@cdc.gov.

Dated: August 29, 2005.
William P. Nichols,
Director, Procurement and Grants Office, Centers for Disease Control and Prevention.

[FR Doc. 05-17491 Filed 9-1-05; 8:45 am]

BILLING CODE 4163-18-P